DEPARTMENT OF TRANSPORTATION

Federal Aviation Administration

[Docket No. FAA-2024-1344]

Agency Information Collection Activities: Requests for Comments; Clearance of a New Approval of Information Collection: Adopt-a-School Application Form

AGENCY: Federal Aviation Administration (FAA), DOT.

ACTION: Notice and request for comments.

SUMMARY: In accordance with the Paperwork Reduction Act of 1995, FAA invites public comments about our intention to request the Office of Management and Budget (OMB) approval for a new information collection. The collection involves collecting feedback from participating school representatives to continuously improve the Adopt-a-School program. The information to be collected will be used to and/or is necessary because satisfaction rating is a metric measured by the Adopt-a-School program for success.

DATES: Written comments should be submitted by June 28, 2024.

ADDRESSES: Please send written comments:

By Electronic Docket: www.regulations.gov (Enter docket number into search field).

By mail: Christine Sharp, 800 Independence Ave. SW, Washington, DC 20591, Room 932.

FOR FURTHER INFORMATION CONTACT: Shannon Stearman by email at: sstearman@faa.gov; phone: 202-267-0236.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Adopt-a-School Application Form.

Form Numbers: N/A.

Type of Review: New Information Collection.

Background: The Adopt-a-School Program is a Signature Program of the FAA's Science Technology Engineering and Math (STEM) Aviation and Space Education (AVSED) Program. The program provides 6 aerospace STEM-based lessons to participating schools in the nine FAA regions across the country each year. This form allows schools to contact the FAA and express interest in the Adopt-a-School Program. The program has specific criteria, and collecting this information from interested schools allows the FAA to determine if a school qualifies and take next steps in the school selection process. Information collected will include the name of the school, point of contact information, basic school characteristics, and confirmation of the level of interest and familiarity of the school with the Adopt-a-School Program. This information will then be used to review and qualify schools, initiate ongoing discussions, and determine the selected schools for the following year.

Respondents: 1,000 Educators, Principals or Administrative Staff at interested schools across the country.

Frequency: Annually.

Estimated Average Burden per Response: 15 Minutes.

Estimated Total Annual Burden: Per respondent: $7.37 Total: $7,372.50.

Issued in Washington, DC, on April 23, 2024.
Christine Sharp,
Manager, Aviation Workforce and Education Division.

[FR Doc. 2024-09146 Filed 4-26-24; 8:45 am]

BILLING CODE 4910-13-P